DEPARTMENT OF THE INTERIOR

Fish and Wildlife Service

50 CFR Part 17

[Docket No. FWS-R4-ES-2014-0065; 4500030114]

RIN 1018-BA03

Endangered and Threatened Wildlife and Plants; Designation of Critical Habitat for the Black Pinesnake; Correction

AGENCY: Fish and Wildlife Service, Interior.

ACTION: Proposed rule; correction.

SUMMARY: We, the U.S. Fish and Wildlife Service (Service), published a proposed rule in the Federal Register on March 11, 2015, to designate critical habitat for the black pinesnake (Pituophis melanoleucus lodingi) under the Endangered Species Act of 1973, as amended (Act). In that proposed rule, we provided the wrong address for the submission of hard-copy comments. With this document, we correct our error.

DATES: We will accept comments on the March 11, 2015 (80 FR 12846), proposed rule that are received or postmarked on or before May 11, 2015.

ADDRESSES: You may submit comments on the March 11, 2015, proposed rule by one of the following methods:

(1) Electronically: Go to the Federal eRulemaking Portal: http://www.regulations.gov. In the Search box, enter FWS-R4-ES-2014-0065, which is the docket number for this rulemaking. You may submit a comment by clicking on “Comment Now!”

(2) By hard copy: Submit by U.S. mail or hand-delivery to: Public Comments Processing, Attn: FWS-R4-ES-2014-0065; Division of Policy, Performance, and Management Programs; U.S. Fish and Wildlife Service, MS: BPHC; 5275 Leesburg Pike; Falls Church, VA 22041-3803.

We request that you send comments only by one of the methods described above. We will post all comments on http://www.regulations.gov. This generally means that we will post any personal information you provide us (for more information, see the Information Requested section of the March 11, 2015, proposed rule at 80 FR 12846).

FOR FURTHER INFORMATION CONTACT: Stephen Ricks, Field Supervisor, U.S. Fish and Wildlife Service, Mississippi Field Office, 6578 Dogwood View Parkway, Jackson, MS 39213; telephone: 601-321-1122; facsimile: 601-965-4340. If you use a telecommunications device for the deaf (TDD), call the Federal Information Relay Service (FIRS) at 800-877-8339.

SUPPLEMENTARY INFORMATION: In a proposed rule that published in the Federal Register on March 11, 2015, at 80 FR 12846, the ADDRESSES section provided the wrong address for the submission of hard-copy comments. The corrected ADDRESSES section appears above.

Dated: March 16, 2015.
Tina A. Campbell,
Chief, Division of Policy, Performance, and Management Programs, U.S Fish and Wildlife Service.

[FR Doc. 2015-06302 Filed 3-18-15; 8:45 am]

BILLING CODE 4310-55-P